DEPARTMENT OF TRANSPORTATION

Federal Aviation Administration

14 CFR Part 39

[Docket No. 2003-NM-11-AD; Amendment 39-13851; AD 2004-22-23]

RIN 2120-AA64

Airworthiness Directives; Bombardier Model CL-600-2B19 (Regional Jet Series 100 & 440) Airplanes

AGENCY: Federal Aviation Administration, DOT.

ACTION: Final rule.

SUMMARY: This amendment adopts a new airworthiness directive (AD), applicable to certain Bombardier Model CL-600-2B19 (Regional Jet Series 100 & 440) airplanes, that requires a one-time inspection of the shafts of the main landing gear (MLG) side-brace fittings to detect corrosion, and the forward and aft bushings in the left-hand and right-hand MLG side-brace fittings to detect discrepancies. This AD also requires corrective and related actions if necessary. This action is necessary to prevent fractures of the MLG side-brace fitting shafts, and possible collapse of the MLG. This action is intended to address the identified unsafe condition.

DATES: Effective December 14, 2004.

The incorporation by reference of a certain publication listed in the regulations is approved by the Director of the Federal Register as of December 14, 2004.

ADDRESSES: The service information referenced in this AD may be obtained from Bombardier, Inc., Canadair, Aerospace Group, PO Box 6087, Station Centre-ville, Montreal, Quebec H3C 3G9, Canada. This information may be examined at the Federal Aviation Administration (FAA), Transport Airplane Directorate, Rules Docket, 1601 Lind Avenue, SW., Renton, Washington; or at the FAA, New York Aircraft Certification Office, 1600 Stewart Avenue, suite 410, Westbury, New York; or at the National Archives and Records Administration (NARA). For information on the availability of this material at NARA, call (202) 741-6030, or go to: http://www.archives.gov/federal_register/code_of_federal_regulations/ibr_locations.html.

FOR FURTHER INFORMATION CONTACT: Serge Napoleon, Aerospace Engineer, Airframe and Propulsion Branch, ANE-171, FAA, New York Aircraft Certification Office, 1600 Stewart Avenue, suite 410, Westbury, New York 11590; telephone (516) 228-7312; fax (516) 794-5531.

SUPPLEMENTARY INFORMATION: A proposal to amend part 39 of the Federal Aviation Regulations (14 CFR part 39) to include an airworthiness directive (AD) that is applicable to certain Bombardier Model CL-600-2B19 (Regional Jet Series 100 & 440) airplanes was published in the Federal Register on June 14, 2004 (69 FR 32924). That action proposed to require a one-time inspection of the shafts of the main landing gear (MLG) side-brace fittings to detect corrosion, and the forward and aft bushings in the left-hand and right-hand MLG side-brace fittings to detect discrepancies. That action also proposed to require corrective and related actions if necessary.

Comments

Interested persons have been afforded an opportunity to participate in the making of this amendment. Due consideration has been given to the comments received.

Request for Credit for Actions Done per the Original Issue of the Service Bulletin

One commenter requests that actions done per the original issue of Bombardier Service Bulletin 601R-57-036 be considered acceptable for compliance with the corresponding actions in the proposed AD. The commenter notes that Revisions A and B of the service bulletin are mentioned in paragraph (c) of the proposed AD as being acceptable for compliance with the corresponding actions but the paragraph does not state that actions done per the original issue are considered acceptable for compliance with the corresponding actions.

The FAA agrees that actions done per the original issue of the service bulletin are considered acceptable for compliance with the corresponding actions of the final rule. Revision C of the service bulletin, cited as the appropriate source of service information for the final rule, specifies that no additional action is needed for airplanes on which actions were done per previous issues of the service bulletin. We have revised paragraph (c) of the final rule accordingly.

Request To Remove Reference to Functional Test

The same commenter requests that references to the functional test in the proposed AD need not be specified. The commenter states that the “Explanation of Requirements of Proposed AD” paragraph of the proposed AD specifies that the Canadian airworthiness directive CF-2002-41, dated September 20, 2002, does not include the requirement for a functional test of the MLG system, and that the functional test is included in Revision C of the service bulletin. The commenter contends that someone may then believe that the functional test is not a part of the original issue, Revision A, or Revision B of the service bulletin. The commenter notes that the functional test is included in the work instructions of all issues of the service bulletin.

We partially agree with the commenter's request. We acknowledge that the functional test is included in all revisions of the service bulletin. We referenced only Revision C of the service bulletin in the preamble of the proposed AD because it is cited as the appropriate source of service information. Our intent was to explain a “difference” between the Canadian airworthiness directive and the proposed AD in that the Canadian airworthiness directive does not specifically call out the functional test. We confirmed with Transport Canada Civil Aviation (TCCA), which is the airworthiness authority for Canada, that operators are expected to do the functional test and that this AD will call attention to accomplishing the functional test. We do not find that any further clarification is needed. Since the references to the functional test are in certain parts of the preamble of the proposed AD that are not restated in the final rule, we have made no change to the final rule regarding this issue.

Conclusion

After careful review of the available data, including the comments noted above, we have determined that air safety and the public interest require the adoption of the rule with the changes described previously. We have determined that these changes will neither increase the economic burden on any operator nor increase the scope of the AD.

Interim Action

This AD is considered to be interim action. The inspection reports that are required by this AD will enable the manufacturer to obtain better insight into the nature, cause, and extent of the corrosion of the shafts of the MLG side-brace fittings, and eventually to develop final action to address the unsafe condition. Once final action has been identified, we may consider further rulemaking.

Cost Impact

We estimate that 462 airplanes of U.S. registry will be affected by this AD, that it will take approximately 5 work hours per airplane to accomplish the required inspections and functional test, and that the average labor rate is $65 per work hour. Based on these figures, the cost impact of the actions required by this AD on U.S. operators is estimated to be $150,150, or $325 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-22-23 Bombardier, Inc. (Formerly Canadair): Amendment 39-13851. Docket 2003-NM-11-AD.

Applicability: Model CL-600-2B19 (Regional Jet Series 100 & 440) airplanes, serial numbers 7003 through 7651 inclusive; certificated in any category.

Compliance: Required as indicated, unless accomplished previously.

To prevent fractures of the main landing gear (MLG) side-brace fitting shafts, and possible collapse of the MLG, accomplish the following:

Inspections, Corrective Actions, and Related Actions

(a) Within 20 months or 4,000 flight cycles after the effective date of this AD, whichever occurs first: Do a general visual inspection of the shafts of the side-brace fittings of the MLG for corrosion, and of the forward and aft bushings in the left-hand and right-hand MLG side-brace fittings for discrepancies (gouges, scores, corrosion, or other damage); and any applicable corrective and related actions. Do all of the actions in accordance with the Accomplishment Instructions of Bombardier Service Bulletin 601R-57-036, Revision “C”, including Appendix A, dated January 30, 2003. Do any applicable corrective and related actions before further flight. Where the service bulletin specifies to contact the manufacturer for certain replacement instructions: Before further flight, replace per a method approved by either the Manager, New York Aircraft Certification Office (ACO), FAA; or Transport Canada Civil Aviation (TCCA) (or its delegated agent).

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Reporting

(b) Submit a report of any corrosion of the shafts of the side-brace fittings of the MLG found during the inspections required by paragraph (a) of this AD to the Bombardier Technical Help Desk at fax number (514) 833-8501. Submit the report at the applicable time specified in paragraph (b)(1) or (b)(2) of this AD. Submission of the Field-Report Data Sheet in Appendix A of the service bulletin is an acceptable method for complying with this requirement. Include the inspection results (including the percentage of the corrosion), a digital photo of the shafts (if available), the location (zone) in which the corrosion is found, the serial number of the airplane, the name of the inspector, the service bulletin number, and the date of the inspection. Under the provisions of the Paperwork Reduction Act of 1980 (44 U.S.C. 3501 et seq.), the Office of Management and Budget (OMB) has approved the information collection requirements contained in this AD and has assigned OMB Control Number 2120-0056.

(1) If the inspections are done after the effective date of this AD: Submit the report within 30 days after the inspection.

(2) If the inspections were done before the effective date of this AD: Submit the report within 30 days after the effective date of this AD.

Actions Accomplished per Previous Issue of Service Bulletin

(c) Actions accomplished before the effective date of this AD in accordance with Bombardier Service Bulletin 601R-57-036, including Appendix A, dated April 30, 2002; Revision “A”, including Appendix A, dated May 17, 2002; or Revision “B”, including Appendix A, dated July 4, 2002; are considered acceptable for compliance with the corresponding actions specified in this AD.

Alternative Methods of Compliance

(d) In accordance with 14 CFR 39.19, the Manager, New York ACO, is authorized to approve alternative methods of compliance for this AD.

Incorporation by Reference

(e) Unless otherwise specified in this AD, the actions shall be done in accordance with Bombardier Service Bulletin 601R-57-036, Revision “C”, including Appendix A, dated January 30, 2003. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 1600 Stewart Avenue, suite 410, Westbury, New York; or at the National Archives and Records Administration (NARA). For information on the availability of this material at NARA, call (202) 741-6030, or go to: http://www.archives.gov/federal_register/code_of_federal_regulations/ibr_locations.html.

Note 2: The subject of this AD is addressed in Canadian airworthiness directive CF-2002-41, dated September 20, 2002.

Effective Date

(f) This amendment becomes effective on December 14, 2004.

Issued in Renton, Washington, on October 20, 2004.
Kalene C. Yanamura,
Acting Manager, Transport Airplane Directorate, Aircraft Certification Service.

[FR Doc. 04-24629 Filed 11-8-04; 8:45 am]

BILLING CODE 4910-13-P